GENERAL SERVICES ADMINISTRATION

[Notice-MG-2019-01; Docket No. 2019-0002; Sequence No. 6]

Office of Federal High-Performance Buildings; Green Building Advisory Committee; Notification of Meeting and Upcoming Teleconference

AGENCY: Office of Government-wide Policy (OGP), General Services Administration (GSA).

ACTION: Meeting notice.

SUMMARY: Notice of an in-person meeting, and teleconference/web meetings, is being provided according to the requirements of the Federal Advisory Committee Act. This notice provides the schedule for a new teleconference/web meeting of the Green Building Advisory Committee (the Committee), the extended schedule for previously announced and ongoing biweekly Task Group teleconference/web meetings, and the updated schedule for a previously announced full advisory Committee meeting. All of these meetings are open for the public to either listen to or observe. Individuals interested in attending some or all of these meetings must register to attend as instructed below under SUPPLEMENTARY INFORMATION.

DATES: The Committee will hold a newly announced full teleconference/web meeting on Tuesday May 28, 2019, from 3:00 p.m., Eastern Standard Time (EDT), to 4:00 p.m., EDT.

The Committee's two active Task Groups currently have alternate weekly teleconference/web meetings (one call every other week), which will be extended as follows:

• The Building and Grid Integration Task Group, Phase II, will extend currently recurring, biweekly, teleconference/web meetings on Wednesdays, through September 4, 2019, from 3:00 p.m. to 4:00 p.m., EDT.

• The Data-Integrated Building Systems Task Group will extend currently recurring, weekly, teleconference/web meetings on Wednesdays, through August 28, 2019, from 3:00 p.m. to 4:00 p.m., EDT.

• The Committee has rescheduled its spring 2019 in-person meeting to Thursday, September 12, 2019, from May 16, 2019. The meeting will start at 10:00 a.m. Eastern Daylight Time (EDT), and will end no later than 4:00 p.m., EDT.

ADDRESSES: The rescheduled spring 2019 meeting will be held at GSA's Central Office, located at 1800 F Street NW, Washington, DC 20405, Room 1425. The meeting is open to the public and the site is accessible to individuals with disabilities.

FOR FURTHER INFORMATION CONTACT: Mr. Michael Bloom, Group Federal Officer, Office of Federal High-Performance Buildings, OGP, GSA, 1800 F Street NW, Washington, DC 20405, at email address michael.bloom@gsa.gov, or telephone number 312-805-6799. Additional information about the Committee is available on-line at http://www.gsa.gov/gbac.

SUPPLEMENTARY INFORMATION:

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to improve federal buildings (assets, operations, use, and resilience) to enhance human health and performance, and safeguard social, economic, and environmental security. Completed Committee recommendations are posted at: https://www.gsa.gov/about-us/organization/office-of-governmentwide-policy/office-of-federal-highperformance-buildings/policy/green-building-advisory-committee/advice-letters-and-resolutions.

Purpose

The purpose of all the Committee meetings is to convene experts in buildings—including architects, material suppliers, construction contractors, environment, health, security and transportation—to accelerate the successful transformation of the Federal building portfolio to sustainable technologies and practices.

Procedures for Attendance and Public Comment

Contact Mr. Michael Bloom at michael.bloom@gsa.gov to register to attend the in-person meeting on September 12, 2019 or listen to any of these teleconference/web meetings. To attend any of these events, submit your full name, organization, email address, and phone number, and which ones you would like to attend. Requests to attend the teleconference/web meetings must be received by 5:00 p.m. EDT, on Wednesday, May 23, 2019. (GSA will be unable to provide technical assistance to any listener experiencing technical difficulties. Testing access to the Web meeting site before the calls is recommended.) Requests to attend the in-person meeting must be received by 5:00 p.m., EDT, on Friday, July 12, 2019.

Contact Mr. Bloom to register to comment during the in-person meeting. Registered speakers/organizations will be allowed a maximum of five minutes each, and will need to provide written copies of their presentations. Requests to comment at the meeting must be received by 5:00 p.m., EDT, on Friday, July 12, 2019. Written comments may be provided to Mr. Bloom by the same deadline.

May 28, 2019 Committee Teleconference/Web Meeting

This teleconference/web meeting will discuss the topic of GSA's high-performance building certification systems review. This review is required every five years by the Energy Independence and Security Act (EISA) of 2007. Under this review, GSA must identify a system(s) that “will be most likely to encourage a comprehensive and environmentally sound approach” to the certification of high-performance federal buildings.

GSA will present the findings from its evaluation and a draft set of recommendations to seek the Committee's input as part of a public review period. Relevant background information and updates for the teleconference will be posted on GSA's website at http://www.gsa.gov/gbac.

Committee Teleconference/Web Meeting Agenda

• Introductions

• Purpose of GSA's review

• Review methods and findings and GSA draft recommendations

• Committee comments

• Next steps

Biweekly Task Group Conference Calls

These meetings allow the Task Groups to develop consensus recommendations to the Committee, which will, in turn, decide whether to proceed with formal advice to GSA based upon these recommendations.

The Building and Grid Integration Task Group, Phase II continues to build on the recommendations of the first phase of this Task Group, posted at https://www.gsa.gov/cdnstatic/Bldg%20Grid%20Integration%20Advice%20Letter%202-21-19%20-%20508.pdf, to prioritize federal building and grid integration strategies and develop implementation plans and scenarios with future rate structures, including consideration of electronic vehicles (EVs) and energy storage.

The Data-Integrated Building Systems Task Group continues to document and recognize data-integrated building system (e.g., smart building system) use cases that demonstrate the business case and quantify the multiple benefits of integrating building technologies and systems.

In-Person Meeting

The Committee meeting will convene experts in buildings, including architects, material suppliers, construction contractors, environment, health, security and transportation to accelerate the successful transformation of the Federal building portfolio to sustainable technologies and practices. The Meeting provides the venue for the Building-grid integration and Data-integrated building systems Task Groups to present their findings and recommendations.

This full Committee meeting is being rescheduled from May 16, 2019 (Federal Register/Vol. 83, No. 65166).

In-Person Meeting Agenda

• Updates and introductions

• Building-grid integration task group findings & recommendations

• Lunchtime speaker (TBD)

• Data-integrated building systems task group findings & recommendations

• Additional topics proposed by Committee members

• Public comment

• Next steps and closing comments

Kevin Kampschroer,
Federal Director, Office of Federal High-Performance Buildings, General Services Administration.

[FR Doc. 2019-07865 Filed 4-18-19; 8:45 am]

BILLING CODE 6820-14-P